DEPARTMENT OF DEFENSE

Office of the Secretary

Notice of Department of Defense Federal Advisory Committee Meeting—Defense Innovation Board

AGENCY: Office of the Under Secretary of Defense for Research and Engineering (USD(R&E)), Department of Defense (DoD).

ACTION: Notice of Federal Advisory Committee meeting.

SUMMARY: The DoD is publishing this notice to announce that the following Federal Advisory Committee meeting of the Defense Innovation Board (DIB) will take place.

DATES: Open to the public Wednesday, April 17, 2024, from 12:30 p.m. to 2:00 p.m. Eastern Standard Time.

ADDRESSES: The open meeting will take place virtually, via the Defense Visual Information Distribution Service.

FOR FURTHER INFORMATION CONTACT: Dr. Marina Theodotou, the Designated Federal Officer (DFO) at (571) 372-7344 (voice) or osd.innovation@mail.mil. Mailing address is Defense Innovation Board, 4800 Mark Center Drive, Suite 15D08, Alexandria, VA 22350-3600. Website: https://innovation.defense.gov. The most up-to-date changes to the meeting agenda and link to the virtual meeting can be found on the website.

SUPPLEMENTARY INFORMATION: This meeting is being held under the provisions of chapter 10 of title 5, United States Code (U.S.C.) (commonly known as the “Federal Advisory Committee Act” or “FACA”) and 41 Code of Federal Regulations (CFR) 102-3.140 and 102-3.150.

Due to circumstances beyond the control of the DFO and the DoD, the DIB was unable to provide public notification required by 41 CFR 102-3.150(a) concerning its April 17, 2024 meeting. Accordingly, the Advisory Committee Management Officer for the DoD, pursuant to 41 CFR 102-3.150(b), waives the 15-calendar day notification requirement.

Purpose of Meeting: The mission of the DIB is to provide the Secretary of Defense, the Deputy Secretary of Defense, and the USD(R&E) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the Secretary of Defense, the Deputy Secretary of Defense, or the USD(R&E). The objective of this DIB meeting is to provide the public with an update on the current studies as well as obtain, review, and evaluate information related to the DIB's mission and studies.

Agenda: The DIB's open meeting will take place on April 17, 2024, from 12:30 p.m. to 2:00 p.m. The DIB DFO, Dr. Marina Theodotou, will open the meeting and introduce the DIB Chair, Michael Bloomberg for his welcome and opening remarks. The DIB Chair and members will discuss relevant innovation topics through conversation and Q&A, share updates on the status of current studies, and continue gathering data and insights to inform the DIB's current studies through an open discussion with diverse speakers. Guest speakers have been confirmed to inform current studies, as follows:

“Optimizing How We Innovate with Our Allies and Partners”—

1. Chief Master Sergeant Ron Lerch—Senior Enlisted Leader Space Systems Command

2. Mr. Sander Oude Hengel—Defense Attaché for Cooperation, Embassy of the Netherlands in Washington, DC speaking in his capacity as chair of the Defense Memorandum of Understanding Attaches Group

“Aligning Incentives to Drive Faster Tech Adoption”—

1. Colonel Kristi Saling—Chief Talent Officer, U.S. Army

2. Captain Chris Aliperti—Mechanical Engineering Instructor, U.S. Military Academy; Co-Founder and Director, Marne Innovation Center

The DFO will read written public comments into the meeting record, and the Chair to provide closing remarks. The DFO will adjourn the public meeting.

Meeting Accessibility: Pursuant to Federal statutes and regulations (the FACA and 41 CFR 102-3.140 and 102-3.150), the open meeting will be accessible to the public virtually on April 17, 2024, from 12:30 p.m. to 2:00 p.m. Members of the public wishing to attend the meeting virtually will be able to access a link published on the DIB website the morning of the meeting.

Written Statements: Pursuant to 41 CFR 102-3.105(j) and 102-3.140 and section 1009(a)(3) of the FACA, the public or interested organizations may submit written comments or statements to the DIB in response to the stated agenda of the meeting or regarding the DIB's mission in general. Written comments or statements should be submitted to Dr. Marina Theodotou, the DFO, via email to osd.innovation@mail.mil. Comments or statements must include the author's name, title or affiliation, address, and daytime phone number. The DFO must receive written comments or statements being submitted in response to the agenda set forth in this notice by 12:00 p.m. on April 14th, 2024 to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: March 28, 2024.
Aaron T. Siegel,
Alternate OSD Federal Register Liaison Officer, Department of Defense.

[FR Doc. 2024-07053 Filed 4-2-24; 8:45 am]

BILLING CODE 6001-FR-P